DEPARTMENT OF DEFENSE

Department of the Army

Preparation of an Environmental Impact Statement (EIS) at Fort Lewis and Yakima Training Center, Washington

AGENCY: Department of the Army, DoD.

ACTION: Notice of Intent.

SUMMARY: The Department of the Army is updating the environmental strategic planning process for Fort Lewis and the Yakima Training Center (YTC), Washington. While this planning process encompasses a series of individual land management documents (some for each installation and some for both), the fundamental focus of this effort will be on the long-term sustainability of both Fort Lewis and the YTC. The Army will prepare a comprehensive EIS in accordance with the National Environmental Policy Act (NEPA) on proposed revisions to the strategic planning process; and the Army will use public input to ensure that the needs of the installation and the surrounding communities are reflected in the final strategic plans. This sustainability planning will focus on the development of operational procedures that support the Army mission in the present without compromising the ability to accomplish the mission in the future and without limiting local communities' abilities to have a productive future. Deliberate, early planning, adaptability to changing conditions, and thorough coordination with regional stakeholders is essential to address the magnitude and complexity of the challenges inherent in the Army's transformation process. The EIS will evaluate the potential impacts of alternative Fort Lewis and the YTC operations, and appropriate revisions will be made in the installation strategic planning processes.

ADDRESSES: Questions regarding this proposal or written comments should be forwarded to: Public Works, AFZH-PWE MS 17 (Mr. Palul T. Steucke, Jr.), Box 339500. Fort Lewis, WA 98433-9500.

FOR FURTHER INFORMATION CONTACT: Mr. Bill Van Hoesen, Fort Lewis NEPA Coordinator at (253) 966-1780.

SUPPLEMENTARY INFORMATION: The Department of the Army has decided to modernize its forces through a process known as Army Transformation. As an interim step, the Army will establish a force that will use new weapons and employ new doctrines by transforming existing brigades at a number of installations. Fort Lewis has been chosen as one of those installations, and therefore, proposes to develop and adopt an environmental planning process that will ensure that Fort Lewis' land and natural resources can be sustained into the foreseeable future. Fort Lewis and the YTC are essential to the national security mission of the U.S Army Forces Command and the Special Operations Command, providing approximately 86,000 acres and 323,000 acres, respectively, for training areas and ranges. The combined assets of these two installations procedure combat units trained and ready for deployment. The Army has begun the transformation process. Emerging security challenges of the 21st century require that the Army transform. Among these challenges is the need to balance risk by sustaining the Army's readiness to meet the Nation's present warfighting requirements, field and station interim forces to fill current capability gaps, and design and field a force to meet future requirements. Army transformation is a continuous process, which is nested as part of the overall DoD transformation efforts. As part of these efforts, the Army is designing the Objective Force, a force that possesses the characteristic of being responsive, deployable, agile, versatile, lethal, survivable, and sustainable. A supporting effort in the Army's Transformation Campaign is the near-term effort to field and station six Stryker Brigade Combat teams (SBCTs), a force that is forming the development of the Objective Force. SBCTs are designed as a land component part of a joint team. It is designed to enter early in a theater to deter out potential adversaries. If that deterrence fails, it is a force that is more lethal and survivable than the Army's current light infantry forces, and as a member of that deployed joint or coalition force will contribute to swiftly defeat that adversary. With transformation, the army is developing new vehicles, weapons systems and numerous other technologies, which will result in qualitative and quantitative changes in the impact on/to the environment. Currently, as the details of this new force are framed, much is unknown about future actions and resulting environmental impacts. To address such uncertainties, a more sustainable approach to environmental management is envisioned, one that can adapt to these changes by: (1) Identifying issues early in the decision process, (2) providing for a responsive feedback mechanism to decision makers and stakeholder, (3) determining the carrying capacity of the land, and (4) ensuring continuous community and stakeholder involvement. This shift in focus toward sustainability must be integrated into all business processes and management systems. This EIS will assess and evaluate the environmental consequences of alternative management strategies which promote the long-term sustainment of the training mission; natural, cultural, and environmental resources; and the surrounding community and region.

The EIS will evaluate a range of reasonable management alternatives and their subsequent environmental effects, define the sustainability issues that should frame decision making, and provide a clear comparison among the management options. While short-range management options will likely support existing planning processes or documents, these analyses will likely affect long-range sustainability goals, objectives, and management systems. The results of these analyses will be incorporated into revised management documents and installation policies. During the scoping process, the public is asked to define significant sustainability issues and a range of alternative approaches to deal with those issues and establish long-term installation sustainability.

Potential significant issues, in addition to those defined by the public, will include air quality, water quality, cultural resources, sensitive species and habitats, soil erosion, and noise.

Scoping Process: Comments received through this notice will assist the Army in framing alternative courses of action at Fort Lewis and the YTC, identifying potential impacts on the quality of the human and natural environment, and selecting long-range sustainable management of these installations. Individuals and organizations are invited to participate in scoping meetings to be held in the vicinity of Fort Lewis and the Yakima Training Center in the fall of 2002. Notification of actual times and locations will be announced in local newspapers and other media. These meetings will provide the opportunity for the public to participate in the EIS and assist the Army in establishing the scope of the study. The following issues have already been identified for inclusion in the EIS: (1) Managing, with the goal of maintaining healthy species, many that vary in life histories, habitat needs, and response to training and other land uses; (2) Unknown effects of new equipment and training patterns and intensities on environmental resources; (3) Setting allowable training levels when only limited biological information is available on many resources; (4) Insufficient information on threshold levels and the relationship to management measures; (5) The need to coordinate management of many species and habitats with the state; (6) Regulations that are becoming increasingly complex, costly and difficult to understand.

If individuals or organizations are unable to attend the scheduled scoping meetings, they may participate by sending written questions and comments to the address above no later than 30 days following the public scoping meetings. A mailing list has been prepared for public scoping and review throughout the EIS process. This list includes local, state, and Federal agencies with jurisdictions or other interests in the project. In addition, the mailing list includes all adjacent property owners, affected municipalities and other interested parties such as conservation organizations. Anyone wishing to be on the mailing list can contact the person identified above.

Dated: September 20, 2002.
Raymond J. Fatz,
Deputy Assistant Secretary of the Army (Environment, Safety and Occupational Health) OASA (I&E).

[FR Doc. 02-24573 Filed 9-26-02; 8:45 am]

BILLING CODE 3710-08-M